DEPARTMENT OF EDUCATION

[Docket No.: Docket Search Results ED-2023-SCC-0170]

Agency Information Collection Activities; Comment Request; School Pulse Panel 2024-25 Preliminary Field Activities

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before November 27, 2023.

ADDRESSES: To access and review all the documents related to the information collection listed in this notice, please use http://www.regulations.gov by searching the Docket ID number Docket Search Results ED-2023-SCC-0170. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-8240.

FOR FURTHER INFORMATION CONTACT: For specific questions related to collection activities, please contact Carrie Clarady, (202) 245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2024-25 Preliminary Field Activities.

OMB Control Number: 1850-0969.

Type of Review: Revision of a currently approved ICR.

Respondents/Affected Public: State, Local, and Tribal Governments.

Total Estimated Number of Annual Responses: 6,339.

Total Estimated Number of Annual Burden Hours: 2,551.

Abstract: The School Pulse Panel (SPP) is a data collection originally designed to collect repeated voluntary responses from a nationally representative sample of public schools to better understand how schools, students, and educators are responding to the ongoing stressors of the coronavirus pandemic. The School Pulse Panel is conducted by the National Center for Education Statistics (NCES), part of the Institute of Education Sciences (IES), within the United States Department of Education. Due to the immediate need to collect information from schools during the pandemic to satisfy the requirement of Executive Order 14000, an emergency clearance was issued to develop and field the first several monthly collections of the SPP in 2021 and a full review of the SPP data collection was performed under the traditional clearance review process in 2022 (OMB# 1850-0969). SPP's innovative design and timely dissemination of findings have been used and cited frequently among Department of Education senior leadership, the White House Domestic Policy Counsel, the USDA's Food and Nutrition Service, the Centers for Disease Control and Prevention, Congressional deliberations, and the media. The ongoing interest by stakeholders has resulted in dedicated funding to continue the SPP as an ongoing, quick-turnaround data collection vehicle.

For the 2024-25 school year, the survey may ask school staff about a wide range of topics, including but not limited to instructional mode offered; enrollment counts of subgroups of students for various subject interests; strategies to address learning recovery; safe and healthy school mitigation strategies; mental health services; use of technology; information on staffing, nutrition services, absenteeism, usage of federal funds, facilities, and overall principal experiences. It is planned that content will be rotated in and out monthly. This package includes preliminary activities, including a generic special district application and communication materials for district and school recruitment, that will be conducted to help with recruitment efforts for the 2024-25 sample.

Roughly 8,000 public elementary, middle, high, and combined-grade schools will be randomly selected to participate in a panel. The goal will be national representation from 1,000 responding schools in order to report out national estimates. School staff will be asked to provide requested data monthly during the 2024-25 school year. This approach provides the ability to collect detailed information on various topics while also assessing changes over time for items that are repeated from month to month. Given the high demand for data collection during this time, the content of the survey will change monthly.

This request is to conduct the SPP 2024-25 preliminary activities, including contacting and obtaining research approvals from public school districts with an established research approval process (“special contact districts”), where applicable, notifying sampled schools of their selection for the survey and inviting them to complete short Screener Surveys to establish a point of contact at their school. Additional materials may be added to this package after the 60-day public comment period is complete, in time for the subsequent 30-day public comment period that will begin in December 2023/January 2024. In spring of 2024, a clearance for main study data collection activities with schools and districts, including instruments for the first quarter of monthly collections, will be submitted 60-day and 30-day public comment. Subsequent quarterly content submissions will be submitted for 30-day public comment. Because the School Pulse Panel Survey is designed to collect data on timely questions, materials for SPP are cleared under two OMB Number sequences. Materials for SPP 2022 were cleared under OMB# 1850-0969, while 23-24 SPP were cleared primarily under OMB# 1850-0975. For 24-25 we return to OMB# 1850-0969.

Dated: September 21, 2023.
Stephanie Valentine,
PRA Coordinator, Strategic Collections and Clearance Governance and Strategy Division, Office of Chief Data Officer, Office of Planning, Evaluation and Policy Development.

[FR Doc. 2023-20964 Filed 9-26-23; 8:45 am]

BILLING CODE 4000-01-P